DEPARTMENT OF THE INTERIOR

Fish and Wildlife Service

[FWS-R9-IA-2010-N255; 96300-1671-0000-P5]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless a Federal permit is issued that allows such activities. The ESA laws require that we invite public comment before issuing these permits.

DATES: We must receive comments or requests for documents or comments on or before December 15, 2010.

ADDRESSES: Brenda Tapia, Division of Management Authority, U.S. Fish and Wildlife Service, 4401 North Fairfax Drive, Room 212, Arlington, VA 22203; fax (703) 358-2280; or e-mail DMAFR@fws.gov.

FOR FURTHER INFORMATION CONTACT: Brenda Tapia, (703) 358-2104 (telephone); (703) 358-2280 (fax); DMAFR@fws.gov (e-mail).

SUPPLEMENTARY INFORMATION:

I. Public Comment Procedures

A. How Do I Request Copies of Applications or Comment on Submitted Applications?

Send your request for copies of applications or comments and materials concerning any of the applications to the contact listed under ADDRESSES. Please include the Federal Register notice publication date, the PRT-number, and the name of the applicant in your request or submission. We will not consider requests or comments sent to an e-mail or address not listed under ADDRESSES. If you provide an e-mail address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (See ADDRESSES).

B. May I Review Comments Submitted by Others?

Comments, including names and street addresses of respondents, will be available for public review at the address listed under ADDRESSES. The public may review documents and other information applicants have sent in support of the application unless our allowing viewing would violate the Privacy Act or Freedom of Information Act. Before including your address, phone number, e-mail address, or other personal identifying information in your comment, you should be aware that your entire comment—including your personal identifying information—may be made publicly available at any time. While you can ask us in your comment to withhold your personal identifying information from public review, we cannot guarantee that we will be able to do so.

II. Background

To help us carry out our conservation responsibilities for affected species, the Endangered Species Act of 1973, section 10(a)(1)(A), as amended (16 U.S.C. 1531 et seq.), requires that we invite public comment before final action on these permit applications.

III. Permit Applications

A. Endangered Species

Applicant: Sedgwick County Zoological Society, Inc., Wichita, KS; PRT-23646A

The applicant requests a permit to import one male Amur leopard (Panthera pardus orientalis), bred in captivity for the purpose of enhancement of the survival of the species through conservation education and captive breeding. This notification covers activities to be conducted by the applicant over a 5-year period.

Applicant: Kootenai Tribe of Idaho, Bonners Ferry, ID; PRT-24108A

The applicant requests a permit to export ovarian fluid collected at the Tribal hatchery, during normal aquaculture practices, of white sturgeon, (Acipenser transmontanus), for the purpose of enhancement of the survival of the species and scientific research. This notification covers activities to be conducted by the applicant over a 5-year period.

Applicant: Dawn Zimmerman, Memphis, TN; PRT-22511A

The applicant requests a permit to import biological samples from wild brown hyenas (Parahyaena brunnea), for the purpose of scientific research.

Applicant: Drexel University, Dept. of Biology, Philadelphia, PA; PRT-26030A

The applicant requests a permit to import biological samples from mandrill (Mandrillus leucophaeus), red colobus (Procolobus pennanti), red-eared monkey (Cercopithecus erythrotis), leatherback sea turtle (Dermochelys coriacea), hawksbill sea turtle (Eretmochelys imbricata), from Bioko Island, Equatorial Guinea, for the purpose of scientific research.

Applicant: Denver Zoological Gardens, Denver, CO; PRT-25258A

The applicant requests a permit to import one captive-born mandrill (Mandrillus leucophaeus), from the Toronto Zoo, Ontario, Canada for the purpose of enhancement of the survival of the species.

Applicant: Texas A&M University, Schubot Exotic Bird Health Center, College Station, TX; PRT-22077A

The applicant requests a permit to import biological samples from wild thick-billed parrots (Rhynchopsitta pachyrhyncha), from the state of Chihuahua, Mexico for the purpose of scientific research. This notification covers activities to be conducted by the applicant over a 5-year period.

Multiple Applicants

The following applicants each request a permit to import the sport-hunted trophy of one male bontebok (Damaliscus pygargus pygargus), culled from a captive herd maintained under the management program of the Republic of South Africa, for the purpose of enhancement of the survival of the species.

Applicant: Frank Paino, Seaford, NY; PRT-26730A;

Applicant: John Dosch, Zanesville, OH; PRT-26632A;

Applicant: Mark Conklin, Fayetteville, GA; PRT-23647A.

Dated: November 5, 2010.
Brenda Tapia,
Program Analyst/Data Administrator, Branch of Permits, Division of Management Authority.

[FR Doc. 2010-28582 Filed 11-12-10; 8:45 am]

BILLING CODE 4310-55-P